DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 15, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Meat and Poultry Processing Expansion Program.

OMB Control Number: 0570-0079.

Summary of Collection: Section 1001(b)(4) of the American Rescue Plan Act provided funding for “loans and grants and provide other assistance to maintain and improve food and agricultural supply chain resiliency.” Pursuant to this authority, the Rural Business-Cooperative Service (RBCS or Agency), a Rural Development (RD) Agency of the United States Department of Agriculture (USDA), has developed requirements for the Meat and Poultry Processing Expansion Program (MPPEP). The Agency has made grant funding available to promote competition and give more and better options to producers by increasing meat and poultry processing.

Need and Use of the Information: Applicants wishing to apply for an MPPEP grant must submit applications with specified forms, proposals, certifications, and agreements to the Agency electronically through the www.grants.gov online application system.

The information provided will be used to determine applicant and project eligibility and to ensure that projects meet program goals and are for authorized purposes.

Applicants that receive grant awards are also required to execute a Financial Assistance Agreement with the Agency and provide financial and project performance reports to the Agency to ensure that projects are being completed in a timely manner.

Description of Respondents: State, Local, and Tribal Governments.

Number of Respondents: 300.

Frequency of Responses: Reporting: Semi-annually.

Total Burden Hours: 11,924.

Levi S. Harrell,
Departmental Information Collection Clearance Officer.

[FR Doc. 2022-17556 Filed 8-15-22; 8:45 am]

BILLING CODE 3410-XY-P